DEPARTMENT OF COMMERCE

National Oceanic and Atmospheric Administration

RIN 0648-XW23

Endangered and Threatened Species; Take of Anadromous Fish; Research Permit Applications

AGENCY: National Marine Fisheries Service (NMFS), National Oceanic and Atmospheric Administration (NOAA), Commerce.

ACTION: Applications for three new scientific research permits, one permit modification, and one permit renewal.

SUMMARY: Notice is hereby given that NMFS has received five scientific research permit application requests relating to Pacific salmon. The proposed research is intended to increase knowledge of species listed under the Endangered Species Act (ESA) and to help guide management and conservation efforts. The applications may be viewed online at: https://apps.nmfs.noaa.gov/preview/preview_open_for_comment.cfm

DATES: Comments or requests for a public hearing on the applications must be received at the appropriate address or fax number (see ADDRESSES) no later than 5 p.m. Pacific standard time on June 3, 2010.

ADDRESSES: Written comments on the applications should be sent to the Protected Resources Division, NMFS, 1201 NE Lloyd Blvd., Suite 1100, Portland, OR 97232-1274. Comments may also be sent via fax to 503-230-5441 or by e-mail to nmfs.nwr.apps@noaa.gov.

FOR FURTHER INFORMATION CONTACT: Garth Griffin, Portland, OR (ph.: 503-231-2005, Fax: 503-230-5441, e-mail: garth.griffin@noaa.gov. Permit application instructions are available from the address above, or online at apps.nmfs.noaa.gov.

SUPPLEMENTARY INFORMATION:

Species Covered in This Notice

The following listed species are covered in this notice:

Chinook salmon (Oncorhynchus tshawytscha): threatened lower Columbia River (LCR), threatened upper Willamette River (UWR), endangered upper Columbia River (UCR), threatened Snake River (SR) spring/summer (spr/sum), threatened SR fall, threatened Puget Sound (PS).

Chum salmon (O. keta): threatened Columbia River (CR).

Steelhead (O. mykiss): threatened LCR, threatened UWR, threatened middle Columbia River (MCR), threatened SR, threatened UCR, threatened PS.

Coho salmon (O. kisutch): threatened LCR, threatened Oregon Coast (OC).

Sockeye salmon (O. nerka): endangered SR.

Green Sturgeon (Acipenser medirostris)

Eulachon: Southern Distinct Population Segment (DPS) (Thaleichthys pacificus)

Authority

Scientific research permits are issued in accordance with section 10(a)(1)(A) of the ESA (16 U.S.C. 1531 et seq.) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1548 - 2R

The Yakima Training Center - US Army (YTC) is seeking to renew its permit to annually take listed salmonids while conducting research designed to determine fish abundance and distribution on the YTC lands and describe habitat conditions throughout the 500-square mile reservation. The research will also give regional fish managers previously unavailable data on fish presence. The YTC researchers would capture the fish using backpack electrofishing gear, seines, and minnow traps. Once captured, the fish would be measured, allowed to recover, and released. Some of the steelhead may have scale samples taken. The YTC does not intend to kill any of the fish being taken, but some may die as an unintended result of the activities.

Permit 14457 - 2M

The Columbia River Estuary Study Taskforce (CREST) is seeking to modify its current research permit to add some collection locations and increase the numbers of listed fish that may be taken. Under the modified permit, they would annually capture, handle, and release juvenile fish from all the species covered by this notice. They would also capture, mark, tag, and release adult LCR coho, Chinook, and steelhead and CR chum. The purpose of the research is to evaluate estuarine habitat restoration efforts. Specific objectives are to (1) determine species composition, relative abundance, and residence time of various listed fish by using pre-restored and restoration project habitats and adjacent references sites; (2) determine prey use by juvenile salmon; and (3) determine prey availability. The research would benefit listed salmonids by determining how effectively currently altered habitats support salmonids and using that information to guide future habitat modifications.

The CREST would capture the fish using fyke nets, trap nets, and beach seines. Salmonids would be anesthetized, identified, counted, measured, weighed, checked for tags and hatchery marks, and released. Some of the fish may be tagged with passive integrated transponders, or injected with dye or visible implant elastomers. Fin or scale samples for genetic or age analysis would be taken from a portion of the captured juvenile Chinook salmon. Some of the captured juvenile salmonid would be sampled for stomach contents. The CREST does not propose to kill any of the fish being captured, but a small number may die as an unintended result of the activities.

Permit 15207

The Oregon State University (OSU) is seeking a permit to annually take all the listed fish covered by this notice while conducting research designed to help managers assess the condition of rivers and streams in the 12 conterminous western states and evaluate and develop scientifically and statistically rigorous field protocols for assessing large rivers and their tributaries. The study was previously conducted under Permit 1559 - 4A and will benefit listed species by providing baseline information about water quality in the study areas and helping managers enforce the Clean Water Act in those river systems where listed fish are present. The OSU researchers would capture fish (using raft-mounted electrofishing equipment), sample them for biological information, and release them. The researchers will try to avoid adult salmonids, but some may be handled. The researchers do not intend to kill any fish being captured but some may die as an unintentional result of the research activities.

Permit 15162

The University of Idaho (UI) is seeking a three-year permit to take listed salmonids (UCR Chinook and steelhead, SR spr/sum and fall Chinook, SR steelhead, SR sockeye, and MCR steelhead) while conducting research on pacific lamprey passage at McNary And John Day Dams on the Columbia River. The UI researchers would capture pacific lamprey at temporary traps installed near the bottoms of the fishways at the dams. They would also look for lamprey in the fishways and use dipnets to capture them. If listed fish are captured during the dipnetting, they would be released immediately. If they are caught in the lamprey traps, they may be held for up to 11 hours (from 8:00 p.m. when the traps are lowered into place, to 7:00 a.m. when they are pulled and checked), but any captured fish will be released at the moment the trap is checked. The researchers do not expect to kill any listed fish but a small number may die as an unintended result of the research activities.

Permit 15461

The U.S. Fish and Wildlife Service (FWS) is seeking a five-year permit to annually take juvenile threatened SR steelhead during the course of research on Pacific lamprey in the Snake River basin. The research is designed to assess lamprey numbers and habitat in the basin and gauge the effectiveness of a lamprey translocation program. The research will benefit steelhead by generating information that will be used when conducting habitat restoration activities in the basin. The listed fish would be affected by the use of a low-power electrofishing unit designed to bring lamprey young up out of a stream's substrate. Any affected steelhead would simply be allowed to escape; they would not be collected or sampled in any manner. The FWS does not expect to kill any listed fish, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: April 28, 2010.
Angela Somma,
Chief, Endangered Species Division, Office of Protected Resources, National Marine Fisheries Service.

[FR Doc. 2010-10489 Filed 5-3-10; 8:45 am]

BILLING CODE 3510-22-S